FEDERAL ELECTION COMMISSION

Sunshine Act Meeting

Date and Time: Wednesday, January 7, 2004 at 10 a.m.

Place: 999 E Street, NW., Washington, DC (Ninth Floor).

Status: This meeting will be open to the public.

Items to be Discussed: Correction and Approval of Minutes.

Draft Advisory Opinion 2003-36: Republican Governors Association by Executive Director, Edward T. Tobin III.

Notice of Availability: Petition for Rulemaking on Public Access to Materials Relating to Closed Enforcement Cases.

Routine Administrative Matters.

Date and Time: Tuesday, January 13, 2004 at 10 a.m.

Place: 999 E Street, NW., Washington, DC.

Status: This meeting will be open to the public.

Items to be Discussed: Compliance matters pursuant to 2 U.S.C. 437g.

Audits conducted pursuant to 2 U.S.C. 437g, § 438(b), and title 26, U.S.C.

Matters concerning participation in civil actions or proceedings or arbitration.

Internal personnel rules and procedures or matters affecting a particular employee.

FOR FURTHER INFORMATION CONTACT: Robert Biersack, Deputy Press Officer, Telephone: (202) 694-1220.

Mary W. Dove,
Secretary of the Commission.

[FR Doc. 03-31848 Filed 12-22-03; 10:52 am]

BILLING CODE 6715-01-M